ENVIRONMENTAL PROTECTION AGENCY

[EPA-HQ-OPPT-2006-0397; FRL-8069-3]

TSCA Section 21 Petition; Notice of Receipt

AGENCY: Environmental Protection Agency (EPA).

ACTION: Notice.

SUMMARY: This notice announces receipt of a petition submitted by the Sierra Club and requests comments on issues raised by the petition. The petitioner is concerned about the risks of toy jewelry containing lead and requests that EPA take four actions under the Toxic Substances Control Act (TSCA). The petitioner requests that EPA: (1) Require TSCA section 8(d) health and safety data reporting; (2) submit a report to the Consumer Product Safety Commission (CPSC) under TSCA section 9; (3) issue a significant new use rule pursuant to TSCA section 5; and (4) issue quality control orders under TSCA section 6(b). Of the actions requested by the petitioner, TSCA section 21 applies only to requests for actions under TSCA sections 6(b) and 8(d). The Agency must either grant or deny a section 21 petition within 90 days. The Agency will therefore respond to the requests for action under TSCA sections 6(b) and 8(d) by July 20, 2006. EPA will carefully consider the requests for action under TSCA sections 5 and 9, which are not subject to section 21 and will respond to them at a later time.

DATES: Comments must be received on or before June 15, 2006.

ADDRESSES: Submit your comments, identified by docket identification (ID) number EPA-HQ-OPPT-2006-0397, by one of the following methods.

http://www.regulations.gov. Follow the on-line instructions for submitting comments.

Mail: Document Control Office (7407M), Office of Pollution Prevention and Toxics (OPPT), Environmental Protection Agency, 1200 Pennsylvania Ave., NW., Washington, DC 20460-0001.

Hand Delivery: OPPT Document Control Office (DCO, EPA East Bldg., Rm. 6428, 1201 Constitution Ave., NW., Washington, DC. Attention: Docket ID number EPA-HQ-OPPT-2006-0397. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2006-0397. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov website is an “anonymous access” systems, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: EPA has established an official public docket for this action under docket ID number EPA-HQ-OPPT-2006-0397. The official public docket consists of the documents specifically referenced in this action, any public comments received, and other related information. All documents in the docket are listed in the regulations.gov index. Although listed in the index, some information is not publicly available, i.e., CBI or other information whose disclosure is restricted by statute. Certain other material, such as copyrighted material, is not placed on the Internet and will be publicly available only in hard copy form. Publicly available docket materials are available electronically through regulations.gov or in hard copy at the OPPT Docket, EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone numbers: (202) 554-1401; e-mail address: TSCA-Hotline@epa.gov.

For technical information contact: Doreen Cantor, National Program Chemicals Division (7404T), Office of Pollution Prevention and Toxics, Environmental Protection Agency, 1200 Pennsylvania Ave., NW., Washington, DC 20460-0001; telephone number: (202) 566-0486; e-mail address:cantor.doreen@epa.gov.

SUPPLEMENTARY INFORMATION:

I. General Information

A. Does this Action Apply to Me?

You may potentially be affected by this action if you manufacture, import, or distribute in commerce toy jewelry containing lead, or if you manufacture, import, process, or distribute in commerce lead. Potentially affected entities may include, but are not limited to:

• (NAICS code 339914) Costume jewelry and novelty manufacturing

• (NAICS code 339932) Game, toy, and children's vehicle manufacturing

This listing is not intended to be exhaustive, but rather provides a guide for readers regarding some of the entities likely to be affected by this action. Other types of entities not listed in this unit could also be affected. The North American Industrial Classification System (NAICS) codes have been provided to assist you and others in determining whether this action might apply to certain entities. If you have any questions regarding the applicability of this action to a particular entity, consult the technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions. The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Background

A. What is a TSCA Section 21 Petition?

TSCA section 21 allows citizens to petition EPA to initiate a proceeding for the issuance, amendment, or repeal of a rule under TSCA section 4, 6, or 8 or an order under section 5(e) or 6(b)(2). A TSCA section 21 petition must set forth facts that the petitioner believes establish the need for the action requested. EPA is required to grant or deny the petition within 90 days of its filing. If EPA grants the petition, the Agency must promptly commence an appropriate proceeding. If EPA denies the petition, the Agency must publish its reasons for the denial in the Federal Register. Within 60 days of denial, or the expiration of the 90-day period, if no action is taken, the petitioner may commence a civil action in a U.S. district court to compel initiation of the requested rulemaking proceeding.

B. What Action is Requested Under this TSCA Section 21 Petition?

On April 21, 2006, the Sierra Club petitioned EPA to take four actions intended to reduce risks from toy jewelry containing lead. The Sierra Club defines toy jewelry as “any item that serves a decorative but no or minimal functional purpose that is valued at less than $20 per item.” The requested actions are:

• Require TSCA section 8(d) health and safety data reporting for lead and lead salts.

• Submit a TSCA section 9 report to the Consumer Product Safety Commission (CPSC) regarding lead and lead salts.

• Issue a TSCA section 5 Significant New Use Rule regarding lead and lead salts in toy jewelry.

• Issue TSCA section 6(b) quality control orders regarding production of toy jewelry.

The petition also requested certain actions by CPSC, which will be considered by that agency.

The petition sets forth the following incidents in support of its requests. In February 2006, a child died from lead poisoning after ingesting toy jewelry that contained lead. In 2004, 4 importers recalled 150 million metal toy jewelry items pursuant to an agreement with CPSC. Another case of severe lead poisoning occurred from a toy necklace in 2003. Finally, the petition notes that both poisonings, and the recalled jewelry, concerned products distributed in violation of CPSC's 1998 Codification of Guidance Policy on Lead in Consumer Products.

The Sierra Club petition also refers to the federal government's goal of eliminating lead poisoning by 2010. It concludes that the current system is not working and that stronger action is needed if the federal government's goal is to be met.

The petitioner therefore asks EPA to take action under TSCA. EPA has commenced a review of this petition. Comments on the petition may be submitted by any of the methods identified in Unit I.

C. EPA Seeks Additional Information

In considering how to respond to the petition, EPA seeks a better factual understanding of the potential and actual risks to human health and the environment associated with lead in toy jewelry. Therefore, EPA seeks data and information regarding the potential risks to human health associated with lead in toy jewelry, including ongoing uses of lead in toy jewelry, the extent and degree of use, and other information.

Under TSCA section 21, which is applicable to requests for rulemaking proceedings under TSCA sections 6(b) and 8(d), the Agency must either grant or deny a petition within 90 days. Because the Agency must respond to the requests for action under TSCA sections 6(b) and 8(d) by July 20, 2006, EPA will allow the public until June 15, 2006 to reply with any additional information relevant to the issues identified below. EPA will carefully consider the requests for action under TSCA sections 5 and 9, and will respond to them at a later time. In assisting the Agency by supplying this additional information, please follow the procedures in Unit I.B.

In assessing the usability of any data or information that may be submitted, EPA plans to follow the guidelines in EPA's “A Summary of General Assessment Factors for Evaluating the Quality of Scientific and Technical Information” (EPA 100/B-03/001), referred to as the “Assessment Factors Document.” This document is available at the following website: http://www.epa.gov/osa/spc/assess.htm. The Federal Register notice for this document is available at the following Web site: http://www.epa.gov/fedrgstr/EPA-GENERAL/2003/July/Day-01/g16328.htm.

In particular, EPA seeks information on the following:

1. Quantitative information, data and/or reports (e.g., incident reports, recent scientific and technical studies) associated with the presence of lead in toy jewelry. This would include any information on how and why lead is used in toy jewelry, the extent and prevalence of lead in toy jewelry, and the concentrations of lead found in toy jewelry (including lead used by design or by inadvertent contamination). The Agency is also interested in information on the manner and methods of manufacturing, processing, distribution in commerce, and disposal of toy jewelry containing lead.

2. Quantitative information, data and/or case examples (e.g., incident reports, recent scientific and technical studies) associated with the health effects, particularly to children, from toy jewelry or similar objects containing lead. This would include any case studies or other information relating to exposure of human beings or the environment to lead in toy jewelry, particularly any exposure of children to lead in toy jewelry. Also useful would be information on exposure to lead in similar objects which are available to children via direct mouthing or ingestion, or hand-to-mouth behavior. This would include any studies or other information relating lead concentration or quantity to blood lead level or health effects.

3. Information on and evidence of quality control procedures for the manufacture, import, distribution, and sale of toy jewelry, particularly those procedures that would measure and monitor lead content of various components of toy jewelry. This would include information of the cost and effectiveness of these procedures.

4. Information on the availability, cost, and health effects of alternatives to lead in toy jewelry.

5. Information on whether the definition of toy jewelry used by the Sierra Club (“any item that serves a decorative but no or minimal functional purpose that is valued at less than $20 per item”) is clear and otherwise appropriate.

List of Subjects

Environmental protection.

Dated: May 23, 2006.
Wendy C. Hamnett,
Acting Director, Office of Pollution Prevention and Toxics.

[FR Doc. E6-8246 Filed 5-30-06; 8:45 am]

BILLING CODE 6560-50-S